DEPARTMENT OF TRANSPORTATION

Federal Aviation Administration

14 CFR Part 71

[Docket No. FAA-2020-0567; Airspace Docket No. 20-AAL-15]

RIN 2120-AA66

Proposed Amendment to Federal Airways Amber 15 (A-15), V-444, J-502, and J-511; Alaska and Establishment of Q-Routes

AGENCY: Federal Aviation Administration (FAA), DOT.

ACTION: Supplemental notice of proposed rulemaking (SNPRM).

SUMMARY: This action proposes to amend Federal airways J-502, and J-511 in Alaska. It also proposes to establish 2 Q routes, Q-902, and Q-811. The modifications are necessary due to the decommissioning of the Burwash Non-Directional Beacon (NDB) in Yukon Territory, Canada, which provided navigation guidance for portions of the affected routes. The Burwash NDB was decommissioned effective March 26, 2020 due to ongoing maintenance problems and logistic issues.

DATES: Comments must be received on or before November 9, 2020.

ADDRESSES: Send comments on this proposal to the U.S. Department of Transportation, Docket Operations, 1200 New Jersey Avenue SE, West Building Ground Floor, Room W12-140, Washington, DC 20590; telephone: 1 (800) 647-5527, or (202) 366-9826. You must identify FAA Docket No. FAA-2020-0567; Airspace Docket No. 20-AAL-15 at the beginning of your comments. You may also submit comments through the internet at https://www.regulations.gov.

FAA Order 7400.11E, Airspace Designations and Reporting Points, and subsequent amendments can be viewed online at https://www.faa.gov/air_traffic/publications/. For further information, you can contact the Rules and Regulations Group, Federal Aviation Administration, 800 Independence Avenue SW, Washington, DC 20591; telephone: (202) 267-8783. The Order is also available for inspection at the National Archives and Records Administration (NARA). For information on the availability of FAA Order 7400.11E at NARA, email: fedreg.legal@nara.gov or go to https://www.archives.gov/federal-register/cfr/ibr-locations.html.

FOR FURTHER INFORMATION CONTACT: Christopher McMullin, Rules and Regulations Group, Office of Policy, Federal Aviation Administration, 800 Independence Avenue SW, Washington, DC 20591; telephone: (202) 267-8783.

SUPPLEMENTARY INFORMATION:

Authority for This Rulemaking

The FAA's authority to issue rules regarding aviation safety is found in Title 49 of the United States Code. Subtitle I, Section 106 describes the authority of the FAA Administrator. Subtitle VII, Aviation Programs, describes in more detail the scope of the agency's authority. This rulemaking is promulgated under the authority described in Subtitle VII, Part A, Subpart I, Section 40103. Under that section, the FAA is charged with prescribing regulations to assign the use of the airspace necessary to ensure the safety of aircraft and the efficient use of airspace. This regulation is within the scope of that authority as it would modify the route structure as necessary to preserve the safe and efficient flow of air traffic within the National Airspace System.

Comments Invited

Interested parties are invited to participate in this proposed rulemaking by submitting such written data, views, or arguments as they may desire. Comments that provide the factual basis supporting the views and suggestions presented are particularly helpful in developing reasoned regulatory decisions on the proposal. Comments are specifically invited on the overall regulatory, aeronautical, economic, environmental, and energy-related aspects of the proposal.

Communications should identify both docket numbers (FAA Docket No. FAA-2020-0567; Airspace Docket No. 20-AAL-15) and be submitted in triplicate to the Docket Management Facility (see ADDRESSES section for address and phone number). You may also submit comments through the internet at https://www.regulations.gov.

Commenters wishing the FAA to acknowledge receipt of their comments on this action must submit with those comments a self-addressed, stamped postcard on which the following statement is made: “Comments to FAA Docket No. FAA-2020-0567; Airspace Docket No. 20-AAL-15.” The postcard will be date/time stamped and returned to the commenter.

All communications received on or before the specified comment closing date will be considered before taking action on the proposed rule. The proposal contained in this action may be changed in light of comments received. All comments submitted will be available for examination in the public docket both before and after the comment closing date. A report summarizing each substantive public contact with FAA personnel concerned with this rulemaking will be filed in the docket.

Availability of NPRMs

An electronic copy of this document may be downloaded through the internet at https://www.regulations.gov. Recently published rulemaking documents can also be accessed through the FAA's web page at https://www.faa.gov/air_traffic/publications/airspace_amendments/.

You may review the public docket containing the proposal, any comments received and any final disposition in person in the Dockets Office (see ADDRESSES section for address and phone number) between 9:00 a.m. and 5:00 p.m., Monday through Friday, except federal holidays. An informal docket may also be examined during normal business hours at the office of the Western Service Center, Operations Support Group, Federal Aviation Administration, 2200 South 216th St., Des Moines, WA 98198.

Availability and Summary of Documents for Incorporation by Reference

This document proposes to amend FAA Order 7400.11E, Airspace Designations and Reporting Points, dated July 21, 2020, and effective September 15, 2020. FAA Order 7400.11D is publicly available as listed in the ADDRESSES section of this document. FAA Order 7400.11E lists Class A, B, C, D, and E airspace areas, air traffic service routes, and reporting points.

Background

The FAA published a notice of proposed rulemaking for Docket No. FAA-2020-0567 in the Federal Register (85 FR 38799; June 29, 2020) proposing to amend and remove several Federal airways in Alaska to reflect route changes being made due to the decommissioning of the Burwash NDB. Interested parties were invited to participate in this rulemaking effort by submitting written comments on the proposal. No comments were received.

Subsequent to publication of the NPRM, the FAA determined that further amendments to J-502 and J-511 were required. These amendments would remove the segments contained within Canada and would ensure a ground based method of navigation is available within the National Airspace System. Additionally, the FAA is in the process of transitioning to Next Generation Air Transportation (NEXTGEN). This process provides satellite based navigational routes to replace or augment the ground base navigation system. The FAA proposes to establish two Q routes, Q-811 and Q-902, which would overlay J-502 and J-511 to mitigate the route segments that cannot be supported by ground based navigational facilities.

The Proposal

The FAA is proposing an amendment to Title 14 Code of Federal Regulations (14 CFR) part 71 to amend Federal airways J-502, and J-511, and add Alaska Air Navigational routes Q-811 and Q-902. The proposed airway actions are described below.

J-502: J-502 currently extends between Seattle, WA and Kotzebue, AK. The FAA proposes to remove the segment between Sister Island, AK, VORTAC and Northway, AK, VORTAC. The unaffected portions of the existing route would remain as charted.

J-511: J-511 currently extends between Dillingham, AK and Burwash Landing, YT, Canada, NDB. The FAA proposes to remove the segment between Gulkana VORTAC and Burwash Landing, YT, Canada. The unaffected portions of the existing route would remain as charted.

Q-811: The FAA proposes to establish Q-811 to overly the existing J-511 to mitigate the route segments that cannot be supported by ground navigational facilities. Q-811 would start at Dillingham, AK and terminate at the newly established waypoint of IGSOM, which was established to replace the Burwash NDB.

Q-902: The FAA proposes to create Q-902 to overlay the existing J-502 in its entirety, to mitigate route segments that cannot be supported by ground navigation facilities. Q-902 would start at Seattle, WA and terminate at Kotzebue, AK, excluding that airspace in Canada.

Jet routes are published in paragraph 2004 and United States Area Navigation Routes are published in paragraph 2006, of FAA Order 7400.11E dated July 21, 2020, and effective September 15, 2020, which is incorporated by reference in 14 CFR part 71.1. The Federal airways listed in this document will be subsequently published in the Order.

FAA Order 7400.11, Airspace Designations and Reporting Points, is published yearly and effective on September 15.

Regulatory Notices and Analyses

The FAA has determined that this proposed regulation only involves an established body of technical regulations for which frequent and routine amendments are necessary to keep them operationally current. It, therefore: (1) Is not a “significant regulatory action” under Executive Order 12866; (2) is not a “significant rule” under Department of Transportation (DOT) Regulatory Policies and Procedures (44 FR 11034; February 26, 1979); and (3) does not warrant preparation of a regulatory evaluation as the anticipated impact is so minimal. Since this is a routine matter that will only affect air traffic procedures and air navigation, it is certified that this proposed rule, when promulgated, will not have a significant economic impact on a substantial number of small entities under the criteria of the Regulatory Flexibility Act.

Environmental Review

This proposal will be subject to an environmental analysis in accordance with FAA Order 1050.1F, “Environmental Impacts: Policies and Procedures” prior to any FAA final regulatory action.

List of Subjects in 14 CFR Part 71

Airspace, Incorporation by reference, Navigation (air).

The Proposed Amendment

In consideration of the foregoing, the Federal Aviation Administration proposes to amend 14 CFR part 71 as follows:

PART 71—DESIGNATION OF CLASS A, B, C, D, AND E AIRSPACE AREAS; AIR TRAFFIC SERVICE ROUTES; AND REPORTING POINTS

1. The authority citation for part 71 continues to read as follows:

Authority: 49 U.S.C. 106(f), 106(g); 40103, 40113, 40120; E.O. 10854, 24 FR 9565, 3 CFR, 1959-1963 Comp., p. 389.

§ 71.1 [Amended]

2. The incorporation by reference in 14 CFR 71.1 of FAA Order 7400.11E, Airspace Designations and Reporting Points, dated July 21, 2020 and effective September 15, 2020, is amended as follows:

Paragraph 2004 Jet Routes.

* * * * *

J-502 [Amended]

From Seattle, WA; via Victoria, BC, Canada; Port Hardy, BC, Canada; Annette Island, AK; Level Island, AK; Sisters Island; and then; Northway, AK; Fairbanks, AK; to Kotzebue, AK, excluding the airspace within Canada.

* * * * *

J-511 [Amended]

From Dillingham, AK; via INT Dillingham 059° and Anchorage, AK 247° radials, to Anchorage, AK; Gulkana, AK.

* * * * *

Paragraph 2006 United States Area Navigation Routes.

* * * * *

Q-811 Dillingham, AK to IGSOM [New]
DILLINGHAM, AK (DLG) | VOR/DME | (Lat. 58°59′39.24″ N, long. 158°33′07.99″ W)
KOWOK, AK | FIX | (Lat. 59°12′31.22″ N, long. 157°50′52.40″ W)
SAHOK, AK | FIX | (Lat. 59°34′38.92″ N, long. 156°35′01.99″ W)
FAGIN, AK | WP | (Lat. 59°51′56.15″ N, long. 155°32′43.30″ W)
NONDA, AK | WP | (Lat. 60°19′15.50″ N, long. 153°47′57.60″ W)
AMOTT, AK | WP | (Lat. 60°52′26.59″ N, long. 151°22′23.60″ W)
GASTO, AK | WP | (Lat. 60°56′38.36″ N, long. 151°02′43.16″ W)
ANCHORAGE, AK (TED) | VOR/DME | (Lat. 61°10′04.32″ N, long. 149°57′36.51″ W)
GULKANA, AK (GKN) | VOR/DME | (Lat. 62°09′13.51″ N, long. 145°26′50.51″ W)
TOVAD, CAN | FIX | (Lat. 61°37′45.02″ N, long. 140°58′54.31″ W)
IGSOM, CAN | WP | (Lat. 61°22′14.38″ N, long. 139°02′23.81″ W)
* * * * * * *
Q-902 SEATTLE, WA to KOTZEBUE, AK [New]
SEATTLE, WA (SEA) | VORTAC | (Lat. 47°26′07.34″ N, long. 122°18′34.62″ W)
ORCUS, WA | WP | (Lat. 48°20′39.54″ N, long. 123°07′44.01″ W)
VICTORIA, CAN (YYJ) | VOR/DME | (Lat. 48°43′37.34″ N, long. 123°29′03.69″ W)
ARRUE, CAN | INT | (Lat. 49°04′23.00″ N, long. 124°07′47.00″ W)
ROYST, CAN | INT | (Lat. 49°35′29.00″ N, long. 125°07′35.00″ W)
PORT HARDY, CAN (YZT) | VOR/DME | (Lat. 50°41′02.90″ N, long. 127°21′55.10″ W)
PRYCE, CAN | INT | (Lat. 52°14′17.00″ N, long. 128°45′00.00″ W)
DUGGS, CAN | INT | (Lat. 53°02′05.00″ N, long. 129°30′12.00″ W)
HANRY, CAN | INT | (Lat. 54°36′23.00″ N, long. 131°05′36.00″ W)
ANNETTE ISLAND, AK (ANN) | VOR/DME | (Lat. 55°03′37.47″ N, long. 131°34′42.24″ W)
GESTI, AK | INT | (Lat. 55°25′57.47″ N, long. 131°57′50.40″ W)
DOOZI, AK | WP | (Lat. 55°37′57.14″ N, long. 132°10′28.73″ W)
LEVEL ISLAND, AK (LVD) | VOR/DME | (Lat. 56°28′03.75″ N, long. 133°04′59.21″ W)
HOODS, AK | WP | (Lat. 57°44′34.56″ N, long. 134°40′53.66″ W)
SISTERS ISLAND, AK (SSR) | VORTAC | (Lat. 58°10′39.58″ N, long. 135°15′31.91″ W)
IGSOM, CAN | WP | (Lat. 61°22′14.38″ N, long. 139°02′23.81″ W)
AYZOL, AK | WP | (Lat. 62°28′16.15″ N, long. 141°00′00.00″ W)
NORTHWAY, AK (ORT) | VORTAC | (Lat. 62°56′49.92″ N, long. 141°54′45.39″ W)
RDFLG, AK | WP | (Lat. 63°35′27.26″ N, long. 143°51′00.14″ W)
HRDNG, AK | WP | (Lat. 64°18′04.42″ N, long. 146°12′01.50″ W)
FAIRBANKS, AK (FAI) | VORTAC | (Lat. 64°48′00.25″ N, long. 148°00′43.11″ W)
KOTZEBUE, AK (OTZ) | VOR/DME | (Lat. 66°53′08.46″ N, long. 162°32′23.77″ W)

* * * * *

Issued in Washington, DC, on September 18, 2020.
Scott M. Rosenbloom,
Acting Manager, Rules and Regulations Group.

[FR Doc. 2020-20954 Filed 9-23-20; 8:45 am]

BILLING CODE 4910-13-P